DEPARTMENT OF HOMELAND SECURITY

Federal Emergency Management Agency

44 CFR Part 64

[Docket ID FEMA-2011-0002; Internal Agency Docket No. FEMA-8213]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street SW., Washington, DC 20472, (202) 646-2953.

SUPPLEMENTARY INFORMATION: The NFIP enables property owners to purchase Federal flood insurance that is not otherwise generally available from private insurers. In return, communities agree to adopt and administer local floodplain management aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue their eligibility for the sale of insurance. A notice withdrawing the suspension of the communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Pennsylvania:
Antrim, Township of, Franklin County | 421233 | March 26, 1974, Emerg; April 24, 1981, Reg; January 18, 2012, Susp. | Jan. 18, 2012 | Jan. 18, 2012.
Benezette, Township of, Elk County | 422612 | August 8, 1979, Emerg; June 1, 1987, Reg; January 18, 2012, Susp. | ......do | Do.
Bessemer, Borough of, Lawrence County | 422627 | August 1, 1975, Emerg; July 9, 1982, Reg; January 18, 2012, Susp. | ......do | Do.
Chambersburg, Borough of, Franklin County | 420469 | February 2, 1973, Emerg; July 17, 1978, Reg; January 18, 2012, Susp. | ......do | Do.
Ellport, Borough of, Lawrence County | 422462 | March 9, 1976, Emerg; November 17, 1978, Reg; January 18, 2012, Susp. | ......do | Do.
Ellwood City, Borough of, Lawrence County | 420567 | October 3, 1974, Emerg; June 1, 1982, Reg; January 18, 2012, Susp. | ......do | Do.
Enon Valley, Borough of, Lawrence County | 422463 | August 11, 1975, Emerg; August 3, 1984, Reg; January 18, 2012, Susp. | ......do | Do.
Fannett, Township of, Franklin County | 422424 | February 13, 1976, Emerg; October 29, 1982, Reg; January 18, 2012, Susp. | ......do | Do.
Fox, Township of, Elk County | 421608 | December 19, 1975, Emerg; November 2, 1990, Reg; January 18, 2012, Susp. | ......do* | Do.
Greencastle, Borough of, Franklin County | 420470 | April 24, 1975, Emerg; September 30, 1976, Reg; January 18, 2012, Susp. | ......do | Do.
Greene, Township of, Franklin County | 421649 | June 18, 1974, Emerg; November 2, 1990, Reg; January 18, 2012, Susp. | ......do | Do.
Guilford, Township of, Franklin County | 421650 | January 20, 1976, Emerg; June 18, 1990, Reg; January 18, 2012, Susp. | ......do | Do.
Hamilton, Township of, Franklin County | 421651 | September 17, 1974, Emerg; June 18, 1990, Reg; January 18, 2012, Susp. | ......do | Do.
Hickory, Township of, Lawrence County | 421792 | April 7, 1975, Emerg; August 2, 1982, Reg; January 18, 2012, Susp. | ......do | Do.
Highland, Township of, Elk County | 421609 | January 29, 1976, Emerg; December 1, 1986, Reg; January 18, 2012, Susp. | ......do | Do.
Horton, Township of, Elk County | 421610 | June 12, 1980, Emerg; December 1, 1986, Reg; January 18, 2012, Susp. | ......do | Do.
Jay, Township of, Elk County | 421611 | January 13, 1976, Emerg; December 1, 1986, Reg; January 18, 2012, Susp. | ......do | Do.
Johnsonburg, Borough of, Elk County | 420443 | February 2, 1973, Emerg; September 29, 1978, Reg; January 18, 2012, Susp. | ......do | Do.
Jones, Township of, Elk County | 421612 | January 27, 1976, Emerg; December 1, 1986, Reg; January 18, 2012, Susp. | ......do | Do.
Letterkenny, Township of, Franklin County | 422425 | April 30, 1979, Emerg; September 17, 1982, Reg; January 18, 2012, Susp. | ......do | Do.
Little Beaver, Township of, Lawrence County | 422464 | December 22, 1975, Emerg; May 1, 1986, Reg; January 18, 2012, Susp. | ......do | Do.
Lurgan, Township of, Franklin County | 421652 | October 28, 1975, Emerg; September 1, 1978, Reg; January 18, 2012, Susp. | ......do | Do.
Mahoning, Township of, Lawrence County | 421793 | April 29, 1975, Emerg; February 18, 1983, Reg; January 18, 2012, Susp. | ......do | Do.
Mercersburg, Borough of, Franklin County | 420471 | August 6, 1975, Emerg; March 1, 1986, Reg; January 18, 2012, Susp. | ......do | Do.
Metal, Township of, Franklin County | 421653 | January 16, 1976, Emerg; September 1, 1986, Reg; January 18, 2012, Susp. | ......do | Do.
Millstone, Township of, Elk County | 421613 | March 8, 1977, Emerg; December 1, 1986, Reg; January 18, 2012, Susp. | ......do | Do.
Mont Alto, Borough of, Franklin County | 420472 | July 9, 1975, Emerg; July 16, 1990, Reg; January 18, 2012, Susp. | ......do | Do.
Montgomery, Township of, Franklin County | 422426 | August 1, 1979, Emerg; August 1, 1986, Reg; January 18, 2012, Susp. | ......do | Do.
Neshannock, Township of, Lawrence County | 421794 | November 22, 1974, Emerg; May 17, 1982, Reg; January 18, 2012, Susp. | ......do | Do.
New Castle, City of, Lawrence County | 420568 | August 31, 1973, Emerg; August 15, 1978, Reg; January 18, 2012, Susp. | ......do | Do.
New Wilmington, Borough of, Lawrence County | 420569 | November 8, 1974, Emerg; August 3, 1984, Reg; January 18, 2012, Susp. | ......do | Do.
North Beaver, Township of, Lawrence County | 421795 | March 2, 1977, Emerg; August 19, 1987, Reg; January 18, 2012, Susp. | ......do | Do.
Peters, Township of, Franklin County | 421654 | August 14, 1975, Emerg; September 1, 1986, Reg; January 18, 2012, Susp. | ......do | Do.
Plain Grove, Township of, Lawrence County | 421797 | August 1, 1979, Emerg; August 3, 1984, Reg; January 18, 2012, Susp. | ......do | Do.
Pulaski, Township of, Lawrence County | 421798 | October 21, 1974, Emerg; December 31, 1982, Reg; January 18, 2012, Susp. | ......do | Do.
Quincy, Township of, Franklin County | 421655 | September 27, 1982, Emerg; July 16, 1990, Reg; January 18, 2012, Susp. | ......do | Do.
Ridgway, Borough of, Elk County | 420444 | September 1, 1972, Emerg; February 15, 1980, Reg; January 18, 2012, Susp. | ......do | Do.
Ridgway, Township of, Elk County | 420445 | May 15, 1973, Emerg; September 29, 1978, Reg; January 18, 2012, Susp. | ......do | Do.
Scott, Township of, Lawrence County | 421799 | July 23, 1974, Emerg; November 1, 1986, Reg; January 18, 2012, Susp. | ......do | Do.
Shenango, Township of, Lawrence County | 421029 | January 28, 1974, Emerg; April 3, 1978, Reg; January 18, 2012, Susp. | ......do | Do.
Slippery Rock, Township of, Lawrence County | 422466 | March 1, 1977, Emerg; November 1, 1986, Reg; January 18, 2012, Susp. | ......do | Do.
South New Castle, Borough of, Lawrence County | 422467 | February 18, 1976, Emerg; July 31, 1978, Reg; January 18, 2012, Susp. | ......do | Do.
Southampton, Township of, Franklin County | 421657 | June 17, 1975, Emerg; May 15, 1986, Reg; January 18, 2012, Susp. | ......do | Do.
Spring Creek, Township of, Elk County | 421614 | March 8, 1977, Emerg; December 1, 1986, Reg; January 18, 2012, Susp. | ......do | Do.
St. Marys, City of, Elk County | 420446 | October 25, 1973, Emerg; August 15, 1980, Reg; January 18, 2012, Susp. | ......do | Do.
St. Thomas, Township of, Franklin County | 421656 | August 15, 1975, Emerg; July 16, 1990, Reg; January 18, 2012, Susp. | ......do | Do.
Taylor, Township of, Lawrence County | 421800 | July 30, 1975, Emerg; August 3, 1984, Reg; January 18, 2012, Susp. | ......do | Do.
Union, Township of, Lawrence County | 421801 | April 21, 1975, Emerg; November 5, 1982, Reg; January 18, 2012, Susp. | ......do | Do.
Volant, Borough of, Lawrence County | 421790 | July 23, 1975, Emerg; September 28, 1979, Reg; January 18, 2012, Susp. | ......do | Do.
Wampum, Borough of, Lawrence County | 421791 | December 26, 1974, Emerg; August 3, 1984, Reg; January 18, 2012, Susp. | ......do | Do.
Warren, Township of, Franklin County | 422427 | February 17, 1976, Emerg; September 1, 1986, Reg; January 18, 2012, Susp. | ......do | Do.
Washington, Township of, Franklin County | 421658 | July 1, 1975, Emerg; June 3, 1986, Reg; January 18, 2012, Susp. | ......do | Do.
Washington, Township of, Lawrence County | 422468 | April 3, 1979, Emerg; September 24, 1984, Reg; January 18, 2012, Susp. | ......do | Do.
Wayne, Township of, Lawrence County | 422469 | June 27, 1975, Emerg; May 3, 1982, Reg; January 18, 2012, Susp. | ......do | Do.
Waynesboro, Borough of, Franklin County | 420473 | May 4, 1973, Emerg; November 1, 1985, Reg; January 18, 2012, Susp. | ......do | Do.
Wilmington, Township of, Lawrence County | 421802 | August 12, 1974, Emerg; June 1, 1986, Reg; January 18, 2012, Susp. | ......do | Do.
Region IV
Mississippi:
Doddsville, Town of, Sunflower County | 280162 | April 15, 1975, Emerg; July 17, 1986, Reg; January 18, 2012, Susp. | ......do | Do.
Drew, City of, Sunflower County | 280163 | June 5, 1973, Emerg; May 1, 1978, Reg; January 18, 2012, Susp. | ......do | Do.
Durant, City of, Holmes County | 280074 | April 1, 1974, Emerg; August 19, 1986, Reg; January 18, 2012, Susp. | ......do | Do.
Holmes County, Unincorporated Areas | 280211 | April 11, 1974, Emerg; September 15, 1989, Reg; January 18, 2012, Susp. | ......do | Do.
Moorhead, City of, Sunflower County | 280166 | May 24, 1973, Emerg; April 17, 1978, Reg; January 18, 2012, Susp. | ......do | Do.
Ruleville, Town of, Sunflower County | 280167 | May 14, 1973, Emerg; May 1, 1978, Reg; January 18, 2012, Susp. | ......do | Do.
Sunflower, Town of, Sunflower County | 280168 | May 14, 1973, Emerg; July 17, 1978, Reg; January 18, 2012, Susp. | ......do | Do.
Sunflower County, Unincorporated Areas | 280195 | May 4, 1973, Emerg; September 28, 1979, Reg; January 18, 2012, Susp. | ......do | Do.
Region V
Indiana:
Boone County, Unincorporated Areas | 180011 | November 26, 1975, Emerg; September 16, 1982, Reg; January 18, 2012, Susp. | ......do | Do.
Cedar Lake, Town of, Lake County | 180127 | July 25, 1975, Emerg; March 15, 1982, Reg; January 18, 2012, Susp. | ......do | Do.
Crown Point, City of, Lake County | 180128 | January 31, 1975, Emerg; March 18, 1980, Reg; January 18, 2012, Susp. | ......do | Do.
Dyer, Town of, Lake County | 180129 | October 10, 1974, Emerg; May 15, 1984, Reg; January 18, 2012, Susp. | ......do | Do.
East Chicago, City of, Lake County | 180130 | February 26, 1975, Emerg; June 4, 1980, Reg; January 18, 2012, Susp. | ......do | Do.
Gary, City of, Lake County | 180132 | March 17, 1975, Emerg; March 16, 1981, Reg; January 18, 2012, Susp. | ......do | Do.
Griffith, Town of, Lake County | 185175 | February 26, 1971, Emerg; April 14, 1972, Reg; January 18, 2012, Susp. | ......do | Do.
Hammond, City of, Lake County | 180134 | December 10, 1974, Emerg; March 16, 1981, Reg; January 18, 2012, Susp. | ......do | Do.
Highland, Town of, Lake County | 185176 | May 21, 1971, Emerg; May 19, 1972, Reg; January 18, 2012, Susp. | ......do | Do.
Hobart, City of, Lake County | 180136 | February 14, 1975, Emerg; December 4, 1979, Reg; January 18, 2012, Susp. | ......do | Do.
Lake County, Unincorporated Areas | 180126 | July 25, 1973, Emerg; September 2, 1981, Reg; January 18, 2012, Susp. | ......do | Do.
Lake Station, City of, Lake County | 180131 | March 27, 1975, Emerg; September 5, 1979, Reg; January 18, 2012, Susp. | ......do | Do.
Lebanon, City of, Boone County | 180013 | June 25, 1975, Emerg; May 3, 1982, Reg; January 18, 2012, Susp. | ......do | Do.
Lowell, Town of, Lake County | 180137 | January 31, 1975, Emerg; December 4, 1979, Reg; January 18, 2012, Susp. | ......do | Do.
Merrillville, Town of, Lake County | 180138 | February 16, 1973, Emerg; October 15, 1981, Reg; January 18, 2012, Susp. | ......do | Do.
Munster, Town of, Lake County | 180139 | November 11, 1974, Emerg; May 16, 1983, Reg; January 18, 2012, Susp. | ......do | Do.
New Chicago, Town of, Lake County | 180140 | March 13, 1975, Emerg; January 2, 1980, Reg; January 18, 2012, Susp. | ......do | Do.
Schererville, Town of, Lake County | 180142 | March 17, 1975, Emerg; May 1, 1980, Reg; January 18, 2012, Susp. | ......do | Do.
Schneider, Town of, Lake County | 180143 | March 3, 1976, Emerg; August 1, 1980, Reg; January 18, 2012, Susp. | ......do | Do.
St. John, Town of, Lake County | 180141 | January 20, 1975, Emerg; November 1, 1979, Reg; January 18, 2012, Susp. | ......do | Do.
Thorntown, Town of, Boone County | 180014 | April 29, 1975, Emerg; July 21, 1978, Reg; January 18, 2012, Susp. | ......do | Do.
Whitestown, Town of, Boone County | 180015 | August 5, 1975, Emerg; April 5, 1988, Reg; January 18, 2012, Susp. | ......do | Do.
Whiting, City of, Lake County | 180313 | March 9, 1977, Emerg; March 6, 1981, Reg; January 18, 2012, Susp. | ......do | Do.
Winfield, Town of, Lake County | 180515 | N/A, Emerg; November 14, 1997, Reg; January 18, 2012, Susp. | ......do | Do.
Zionsville, Town of, Boone County | 180016 | May 2, 1975, Emerg; December 15, 1981, Reg; January 18, 2012, Susp. | ......do | Do.
Michigan: Higgins, Township of, Roscommon County | 261011 | December 22, 1997, Emerg; N/A, Reg; January 18, 2012, Susp. | ......do | Do.
Region VI
Oklahoma:
Mooreland, Town of, Woodward County | 400230 | August 16, 1974, Emerg; June 19, 1985, Reg; January 18, 2012, Susp. | ......do | Do.
Woodward, City of, Woodward County | 400232 | April 30, 1974, Emerg; December 16, 1980, Reg; January 18, 2012, Susp. | ......do | Do.
Woodward County, Unincorporated Areas | 400500 | June 29, 1990, Emerg; January 17, 1997, Reg; January 18, 2012, Susp. | ......do | Do.
*do = Ditto.
Code for reading third column: Emerg.—Emergency; Reg.—Regular; Susp.—Suspension.

Dated: January 12, 2012.
David L. Miller,
Associate Administrator, Federal Insurance and Mitigation Administration, Department of Homeland Security, Federal Emergency Management Agency.

[FR Doc. 2012-929 Filed 1-18-12; 8:45 am]

BILLING CODE 9110-12-P